DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

2003 National Survey on Drug Use and Health—(0930-0110, Revision)—The National Survey on Drug Use and Health (NSDUH), formerly the National Household Survey on Drug Abuse (NHSDA), is a survey of the civilian, noninstitutionalized population of the United States 12 years old and older. The data are used to determine the prevalence of use of tobacco products, alcohol, illicit substances, and illicit use of prescription drugs. The results are used by SAMHSA, the Office of National Drug Control Policy, other Federal government agencies, and other organizations and researchers to establish policy, direct program activities, and better allocate resources.

For the 2003 NSDUH, additional questions are being added regarding types of schooling (e.g., public versus private). Several questions using “item count” methodology to estimate use of specific hard-core drugs are slated to be removed. The remaining modular components of the questionnaire will remain essentially unchanged except for minor modifications to wording. In the first quarter of 2003 there will be a field test of the usability of updated computer equipment for screening and interviewing to ensure that the new equipment can be successfully used by both the field interviewing staff and respondents.

As with all NSDUH/NHSDA surveys conducted since 1999, the sample size of the survey for 2003 will be sufficient to permit prevalence estimates for each of the fifty states and the District of Columbia. The total annual burden estimate is shown below:

| Number of responses | Responses per respondent | Average burden per response (hr) | Total burden (hrs.)
Household Screening | 182,250 | 1 | 0.083 | 15,127
Interview and Verification Form | 67,500 | 1 | 1.0 | 67,500
Electronic Screening—Field Test | 1,440 | 1 | 0.083 | 120
Interview and Verification Form—Field Test | 384 | 1 | 1.0 | 384
Screening Verification* | 5,603 | 1 | 0.067 | 375
Interview Verification* | 10,183 | 1 | 0.067 | 682
Total | 202,500 |  |  | 84,188
*Includes cases from Field Test sample.

Written comments and recommendations concerning the proposed information collection should be sent within 30 days of this notice to: Allison Herron Eydt, Human Resources and Housing Branch, Office of Management and Budget, New Executive Office Building, Room 10235, Washington, DC 20503.

Dated: July 9, 2002.
Richard Kopanda,
Executive Officer, SAMHSA.

[FR Doc. 02-17626 Filed 7-12-02; 8:45 am]

BILLING CODE 4162-20-P